DEPARTMENT OF TRANSPORTATION

Federal Motor Carrier Safety Administration

[Docket No. FMCSA-2011-0177]

Agency Information Collection Activities; Request for Comment; Extension of an Information Collection: Hours of Service (HOS) of Drivers Regulations

AGENCY: Federal Motor Carrier Safety Administration (FMCSA), DOT.

ACTION: Notice and request for comments.

SUMMARY: In accordance with the Paperwork Reduction Act of 1995 (PRA), FMCSA announces its plan to submit the Information Collection Request (ICR) described below to the Office of Management and Budget (OMB) for review and approval and invites public comment. The FMCSA requests OMB approval to revise and extend an existing ICR entitled, “Hours of Service (HOS) of Drivers Regulations.” The HOS rules require most commercial motor vehicle (CMV) drivers to maintain in the CMV an accurate record of duty status (RODS) in either paper or electronic form. The Agency, effective June 4, 2010, authorized the use of electronic on-board recorders (EOBRs) to create driver RODS. This ICR estimates, for the first time, the PRA burden of motor carriers voluntarily directing their drivers to employ EOBRs. This ICR promotes safety in CMV operations by assisting motor carriers and enforcement officials in monitoring compliance with the HOS rules. On June 6, 2011, FMCSA published a Federal Register notice allowing for a 60-day comment period on the ICR (76 FR 32388). One comment was received.

DATES: Please send your comments by September 12, 2011. OMB must receive your comments by this date in order to act quickly on the ICR.

ADDRESSES: All comments should reference Federal Docket Management System (FDMS) Docket Number FMCSA-2011-0177. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, faxed to (202) 395-6974, or mailed to the Office of Information and Regulatory Affairs, Office of Management and Budget, Docket Library, Room 10102, 725 17th Street, NW., Washington, DC 20503.

FOR FURTHER INFORMATION CONTACT: Robert F. Schultz, Jr., FMCSA Driver and Carrier Operations Division. Telephone: 202-366-4325. E-mail: MCPSD@dot.gov.

SUPPLEMENTARY INFORMATION: Title: Hours of Service (HOS) of Drivers Regulations.

OMB Control Number: 2126-0001.

Type of Request: Revision and extension of a currently-approved information collection.

Respondents: Motor Carriers, Drivers of CMVs.

Estimated Annual Respondents: 4.93 million [4.60 million drivers + 0.33 million active motor carriers].

Estimated Time per Response: A driver employing a paper RODS takes an average of 6.5 minutes to complete it; a driver employing an EOBR takes an average of 2 minutes to complete it. A driver takes an average of 5 minutes to forward a paper RODS to the motor carrier; a driver employing an EOBR is relieved of this task by automation. Whether using a paper or EOBR RODS, a motor carrier takes 2 minutes to review a RODS and its corresponding supporting documents, and 1 additional minute to maintain those supporting documents. For those motor carriers using an EOBR, the ICR burden of maintaining the RODS is eliminated by automation; for those motor carriers using paper RODS, 1 minute is required to maintain the RODS.

Expiration Date: 8/31/2011.

Estimated Frequency of Response

Drivers: 240 days per year, on average.

Motor Carriers: 240 days per year, on average.

Estimated Annual Responses: 3,843.59 million—the sum of the following:

A. Driver Tasks

(1) Filling out the RODS: 1,104 million, and

(2) Forwarding the RODS to the motor carrier: 102.23 million.

B. Motor Carrier Tasks

(1) Reviewing the RODS: 552 million,

(2) Maintaining the RODS: 981.36 million, and

(3) Maintaining the supporting documents: 1,104 million.

Estimated Total Annual Burden: 172.08 million burden hours [118.92 million driver hours + 53.16 million carrier hours].

Background: The FMCSA regulates the amount of time a CMV driver may drive or otherwise be on duty, in order to ensure that an adequate period of time is available to the driver to rest. A driver must accurately record his or her duty status (driving, on duty not driving, off duty, sleeper berth) at all points during the 24-hour period designated by the motor carrier (49 CFR 395.8(a)(1)). This RODS must be made on a grid specified by subsection 395.8(g). The term “logbook” is often used in the industry to denote the collection of the most recent RODS of the driver. A driver must have the RODS for the previous 7 consecutive days in the CMV at all times (395.8(k)(2)). The RODS must be submitted to the motor carrier along with any supporting documents, such as fuel receipts and toll tickets that could assist in verifying the accuracy of entries on the RODS, and the motor carrier must retain these records for a minimum of 6 months from the date of receipt (49 CFR 395.8(k)(1)).

Statutory authority for regulating the hours of service (HOS) of drivers operating CMVs in interstate commerce is derived from 49 U.S.C. 31136 and 31502. The penalty provisions are located at 49 U.S.C. 521, 522 and 526, as amended. On November 28, 1982, the Federal Highway Administration (FHWA), the agency responsible for administration of the Federal Motor Carrier Safety Regulations (FMCSRs) (49 CFR 350 et seq.) at that time, promulgated a final rule requiring motor carriers to ensure that their drivers record their duty status in a specified format and verify the accuracy of the HOS of each driver (47 FR 53383). The rule is codified at 49 CFR 395.8.

The HOS rules provide the following four methods of recording driver duty status:

(1) Paper RODS: This grid form requires the driver to graph time and location on a paper record over a 24-hour period (Section 395.8(g)). It must be present on the CMV in the absence of a regulatory exception.

(2) Time Record: The HOS regulations allow certain “short haul” CMV drivers to avoid the onboard-the-CMV RODS requirement if their employing motor carrier records their HOS by means of a time record or time card maintained at the place of business (Section 395.1(e)). To qualify for this exception, short-haul drivers generally must return at the end of the duty day to the same location at which they began the day, and must remain within a certain distance of that location at all times during the duty day. The time record must show the time the driver began work, was released from work, and the total hours worked.

(3) Automatic On-Board Recording Device (AOBRD): An electronic record is permitted if it is created and maintained by an AOBRD as defined by 49 CFR 395.2. The record must include all the information that would appear on a paper RODS, and the driver or carrier must be capable of producing this information upon demand.

(4) EOBR: Motor carriers subject to an FMCSA remedial directive must use an electronic record created and maintained by an EOBR as defined in 49 CFR 395.2. Other motor carriers may voluntarily employ EOBRs.

The RODS is important because it provides motor carriers and enforcement personnel a significant tool for determining driver compliance with the HOS rules. Compliance helps FMCSA protect the public by reducing the number of tired CMV drivers on the highways.

Most States receive grants from FMCSA under the Motor Carrier Safety Assistance Program. As a condition of receiving these grants, States agree to adopt and enforce the FMCSRs, including the HOS rules, as State law. As a result, State enforcement inspectors use the RODS and supporting documents to determine whether CMV drivers are complying with the HOS rules. In addition, FMCSA uses the RODS during on-site compliance reviews (CRs) and targeted reviews of motor carriers. The CR is a public record. An unfavorable review can be damaging to a motor carrier's business because customers may access the CRs before selecting a motor carrier to hire. Finally, Federal and State judicial systems generally accept RODS as evidence in actions alleging driver or motor carrier violations of the HOS regulations. This information collection supports the DOT's Strategic Goal of Safety because the information helps the Agency ensure the safe operation of CMVs in interstate commerce on our Nation's highways.

The currently-approved PRA burden estimate is 181.28 million hours, as approved by OMB on August 20, 2010. The expiration date of this IC is August 31, 2011. In this ICR, FMCSA proposes to reduce the PRA burden by approximately 9.20 million burden hours, or by slightly over 5 percent. FMCSA seeks OMB approval of its revised estimated PRA burden of 172.08 million burden hours. In today's submission, FMCSA for the first time estimates the extent of voluntary EOBR use by motor carriers, and subtracts that same number from its estimate of the extent of the use of paper RODS. The Agency maintains its OMB-approved estimates of the total number of CMV drivers subject to the HOS rules, and the total number of CMV drivers subject to an Agency remedial HOS directive.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the information collected.

Issued on: August 8, 2011.
Kelly Leone,
Associate Administrator for Research and Information Technology.

[FR Doc. 2011-20584 Filed 8-11-11; 8:45 am]

BILLING CODE 4910-EX-P